DEPARTMENT OF COMMERCE

Economic Development Administration

Proposal and Application for Federal Assistance, and Civil Rights Guidelines

ACTION: Proposed collection; comment request.

SUMMARY: The Department of Commerce, as part of its continuing effort to reduce paperwork and respondent burden, invites the general public and other Federal agencies to take this opportunity to comment on proposed or continuing information collections, as required by the Paperwork Reduction Act of 1995, 44 U.S.C. 3501, et seq.

DATES: Written comments must be submitted on or before October 1, 2002.

ADDRESSES: Direct all written comments to Madeleine Clayton, Departmental Paperwork Clearance Officer, Department of Commerce, Room 6608, 14th and Constitution Avenue, NW, Washington, DC 20230 (or via Internet at MClayton@doc.gov).

FOR FURTHER INFORMATION CONTACT: Requests for additional information or copies of the information collection instruments and instructions should be directed to Patricia Flynn, Director, Operations Review and Analysis Division, Economic Development Administration, Room 7015, Washington, DC 20230, telephone: (202) 482-5353.

SUPPLEMENTARY INFORMATION:

I. Abstract

The Economic Development Administration (EDA) provides investments that will help our partners across the nation (states, regions and communities) create wealth and minimize poverty by promoting a favorable business environment to attract private capital investment and high skill, high wage jobs through world-class capacity building, infrastructure, business assistance, research grants and strategic initiatives.

EDA's Proposal and Application for Federal Assistance, and Civil Rights Guidelines are needed to determine conformance to statutory and regulatory requirements as set forth in EDA's authorizing legislation (Public Law 105-393) and EDA's implementing regulations at 13 CFR Chapter III. EDA must obtain certain data to assess the quality of the scope of work proposed to address the pressing needs and other economic problem(s) of the area, the merits of the activity for which funding is requested, and the ability of the prospective applicant to carry out the proposed activities successfully.

II. Method of Collection

Potential applicants are responsible for demonstrating to EDA, by providing statistics and other appropriate information, the nature and level of the distress their project efforts are intended to alleviate. EDA provides funding for eligible investment activities through direct grants and cooperative agreements. The Civil Rights Guidelines are required by the Department of Justice at 28 CFR 42.404, which directs Federal agencies to publish Title VI guidelines for each type of program to which they extend financial assistance, where such guidelines would be appropriate to provide detailed information of the requirements of Title VI of the Civil Rights Act of 1964. To responsibly administer its programs, EDA must obtain certain data on the jobs to be created and saved, by those that apply for and receive its assistance (applicants and recipients), and by those that create or save 15 or more jobs as a result of EDA's assistance.

III. Data

OMB Number(s): 0610-0094.

Agency Form Number: ED-900P, ED-900A, and ED-900R.

Type of Review: Extension of a currently approved collection.

Affected Public: State, local or Tribal Governments and not-for-profit organizations.

Estimated Number of Respondents: 1,900 (1,100 for ED-900P, 800 for ED-900 A, ED-900R and for Civil Rights Guidelines).

Estimated Time per Response: 9 burden hours for ED-900P, 48.5 burden hours for ED-900A, ED-900R, and Civil Rights Guidelines).

Estimated Total Annual Burden Hours: 48,700.

Estimated Total Annual Cost: $2,539,000.

IV. Request for Comments

Comments are invited on: (a) Whether the proposed collection of information is necessary for the proper performance of the functions of the agency, including whether the information shall have practical utility; (b) the accuracy of the agency's estimate of the burden (including hours and cost) of the proposed collection of information; (c) ways to enhance the equality, utility and clarity of the information to be collected; and (d) ways to minimize the burden of the collection of information on respondents, including through the use of automated collection techniques or other forms of information technology.

Comments submitted in response to this notice will be summarized and/or included in the request for OMB approval of this information collection; and they also will become a matter of public record.

Dated: July 29, 2002.
Madeleine G. Clayton,
Departmental Paperwork Clearance Officer, Office of the Chief Information Officer.

[FR Doc. 02-19517 Filed 8-1-02; 8:45 am]

BILLING CODE 3510-34-P